DEPARTMENT OF AGRICULTURE

Animal and Plant Health Inspection Service

[Docket No. 01-039-2]

Availability of an Environmental Assessment and Finding of No Significant Impact

AGENCY: Animal and Plant Health Inspection Service, USDA.

ACTION: Notice.

SUMMARY: We are advising the public that an environmental assessment and finding of no significant impact have been prepared by the Animal and Plant Health Inspection Service relative to a demonstration project to eradicate and prevent the spread of the aquatic weed giant salvinia in the Toledo Bend Reservoir and surrounding areas in Louisiana and eastern Texas. The environmental assessment provides a basis for our conclusion that the implementation of the demonstration project will not have a significant impact on the quality of the human environment. Based on its finding of no significant impact, the Animal and Plant Health Inspection Service has determined that an environmental impact statement need not be prepared.

ADDRESSES: Copies of the environmental assessment and finding of no significant impact are available for public inspection at USDA, room 1141, South Building, 14th Street and Independence Avenue SW., Washington, DC, between 8 a.m. and 4:30 p.m., Monday through Friday, except holidays. Persons wishing to inspect theses documents are requested to call (202) 690-2817 before coming.

FOR FURTHER INFORMATION CONTACT: Dr. Alan V. Tasker, National Weed Program Coordinator, Invasive Species and Pest Management, PPQ, APHIS, 4700 River Road Unit 134, Riverdale, MD 20737-1236; (301) 734-5225.

SUPPLEMENTARY INFORMATION:

Background

Giant salvinia (Salvinia molesta) is a free-floating aquatic fern, native to South America, with a tremendous growth rate and the potential to significantly affect water-reliant agricultural industries, recreation, and the ecology of freshwater habitats throughout much of the United States.

The Animal and Plant Health Inspection Service (APHIS) listed giant salvinia as a noxious weed in 1983. Under APHIS' regulations, no person may move giant salvinia into or through the United States, or interstate, unless he or she obtains a permit for the movement from APHIS.

In the past several years, giant salvinia has been detected in the United States, mostly in association with the nursery trade in aquatic plants. Generally, detections have been in small, confined sites and are currently contained or have been eradicated. Such detections have occurred in Alabama, Arizona, Florida, Hawaii, Indiana, Louisiana, Maryland, Missouri, North Carolina, South Carolina, Texas, and Virginia. Of more serious and immediate concern is the current infestation in the Toledo Bend Reservoir and the surrounding areas in Louisiana and eastern Texas. The Toledo Bend Reservoir infestation is a major one in a large body of water.

Because current efforts to eradicate giant salvinia in the Toledo Bend Reservoir and the surrounding areas in Louisiana and eastern Texas have been unsuccessful, APHIS has evaluated additional control methods available to help eradicate this noxious weed. These control methods include:

• An integrated control approach utilizing herbicides and mechanical, biological, and regulatory controls.

• A biological control program that requires no herbicide application.

On July 24, 2001, we published in the Federal Register (66 FR 38414-38415, Docket No. 01-039-1) a notice in which we announced the availability, for public review and comment, of an environmental assessment that examines the potential environmental effects of the giant salvinia control methods described above on the Toledo Bend Reservoir and surrounding areas in Louisiana and eastern Texas. We solicited comments on the environmental assessment for 30 days ending on August 23, 2001. We received no comments by that date.

In this document, we are advising the public of APHIS' record of decision and finding of no significant impact regarding the use of the methods described above to control giant salvinia in the Toledo Bend Reservoir and surrounding areas in Louisiana and eastern Texas. This decision, which is based on the findings of the environmental assessment, will allow APHIS to begin giant salvinia control activities in the Toledo Bend Reservoir and surrounding areas.

The environmental assessment and finding of no significant impact may be viewed on the Internet at http://www.aphis.usda.gov/ppd/es/ppqdocs.html. You may request paper copies of the environmental assessment and finding of no significant impact by calling or writing to the person listed under FOR FURTHER INFORMATION CONTACT. Please refer to the title of the environmental assessment when requesting copies. The environmental assessment and finding of no significant impact are also available for review in our reading room (information on the location and hours of the reading room is listed under the heading ADDRESSES at the beginning of this notice).

The environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 29th day of November 2001.
W. Ron DeHaven,
Acting Administrator, Animal and Plant Health Inspection Service.

[FR Doc. 01-30106 Filed 12-4-01; 8:45 am]

BILLING CODE 3410-34-P